DEPARTMENT OF VETERANS AFFAIRS

[OMB Control No. 2900-New (VA Form 0730a)]

Agency Information Collection (Child Care Subsidy) Activities Under OMB Review

AGENCY: Human Resources Management, Department of Veterans Affairs.

ACTION: Notice.

SUMMARY: In compliance with the Paperwork Reduction Act (PRA) of 1995 (44 U.S.C. 3501-3521), this notice announces that the Office of Management (OM), Department of Veterans Affairs, has submitted the collection of information abstracted below to the Office of Management and Budget (OMB) for review and comment. The PRA submission describes the nature of the information collection and its expected cost and burden and it includes the actual data collection instrument.

DATES: Comments must be submitted on or before September 4, 2008.

ADDRESSES: Submit written comments on the collection of information through http://www.Regulations.gov; or to VA's OMB Desk Officer, OMB Human Resources and Housing Branch, New Executive Office Building, Room 10235, Washington, DC 20503 (202) 395-7316. Please refer to “OMB Control No. 2900-New (VA Form 0730a)” in any correspondence.

FOR FURTHER INFORMATION OR A COPY OF THE SUBMISSION CONTACT: Denise McLamb, Records Management Service (005R1B), Department of Veterans Affairs, 810 Vermont Avenue, NW., Washington, DC 20420, (202) 461-7485, fax (202) 273-0443 or e-mail: denise.mclamb@mail.va.gov. Please refer to “OMB Control No. 2900-New (VA Form 0730a).”

SUPPLEMENTARY INFORMATION: Titles:

a. Child Care Subsidy Application Form, VA Form 0730a.

b. Child Care Provider Information (For the Child Care Subsidy Program), VA Form 0730b.

OMB Control Number: 2900-New.

Type of Review: Existing collection in use without an OMB control number.

Abstracts:

a. VA employees complete VA Form 0730a to request participation in VA's child care subsidy program. VA will use the data collected to determine the percentage of monthly cost to be subsidized for child care.

b. VA Form 0730b is completed by the child care provider. The data will be used to determine whether the child care provider is licensed and/or regulated by the state to perform child care.

An agency may not conduct or sponsor, and a person is not required to respond to a collection of information unless it displays a currently valid OMB control number. The Federal Register Notice with a 60-day comment period soliciting comments on this collection of information was published on May 14, 2008, at pages 27893-27894.

Affected Public: Individuals or households and Business or other for-profit.

Estimated Annual Burden:

a. VA Form 0730a—667 hours.

b. VA Form 0730b—333 hours.

Estimated Average Burden per Respondent:

a. VA Form 0730a—20 minutes.

b. VA Form 0730B—10 minutes.

Frequency of Response: On occasion.

Estimated Number of Respondents:

a. VA Form 0730a—2,000.

b. VA Form 0730b—2,000.

Dated: July 29, 2008.
By direction of the Secretary.
Denise McLamb,
Program Analyst, Records Management Service.

[FR Doc. E8-17843 Filed 8-4-08; 8:45 am]

BILLING CODE 8320-01-P